DEPARTMENT OF HEALTH AND HUMAN SERVICES

Centers for Disease Control and Prevention

Advisory Committee on Childhood Lead Poisoning Prevention (ACCLPP)

In accordance with section 10(a)(2) of the Federal Advisory Committee Act (Pub. L. 92-463), the Centers for Disease Control and Prevention (CDC), announces the following meeting of the aforementioned committee.

Times and Dates:

8:30 a.m.-5 p.m., March 10, 2009.

8:30 a.m.-12:30 p.m., March 11, 2009.

Place: The Westin Atlanta North at Perimeter, Seven Concourse Parkway, Atlanta, Georgia, 30337, telephone: 770-395-3900.

Status: Open to the public, limited only by the space available. The meeting room accommodates approximately 75 people.

Purpose: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters to be Discussed: General discussion on the potential approaches to strengthen existing strategies to achieve the Healthy People 2010 goal of eliminating childhood lead poisoning. An overview and discussion on international cooperation initiative directed at lead poisoning issues. Update from Education Support Workgroup. Update from Lead and Pregnancy Workgroup. Update on Federal implementation measures on the Consumer Product Safety Improvement Act of 2008.

Agenda items are subject to change as priorities dictate.

Opportunities will be provided during the meeting for oral comments. Depending on the time available and the number of requests, it may be necessary to limit the time of each presenter.

For Further Information Contact: Claudine Johnson, Program OP Assistant, Lead Poisoning Prevention Branch, Division of Environmental Emergency Health Services, National Center for Environmental Health, CDC, 4770 Buford Hwy, NE., Mailstop F60, Atlanta, GA 30341, telephone 770-488-3629, fax 770 488-3635.

The Director, Management Analysis and Services Office has been delegated the authority to sign Federal Register notices pertaining to announcements of meetings and other committee management activities, for both CDC and the Agency for Toxic Substances and Disease Registry.

Dated: January 29, 2009.
Elaine L. Baker,
Director, Management Analysis and Services Office, Centers for Disease Control and Prevention.

[FR Doc. E9-3794 Filed 2-20-09; 8:45 am]

BILLING CODE 4163-18-P